DEPARTMENT OF THE INTERIOR

National Park Service

[NPS-WASO-NAGPRA-NPS0037980; PPWOCRADN0-PCU00RP14.R50000]

Notice of Inventory Completion: City of Evansville Water and Sewer Utility, Evansville, IN

AGENCY: National Park Service, Interior.

ACTION: Notice.

SUMMARY: In accordance with the Native American Graves Protection and Repatriation Act (NAGPRA), the City of Evansville Water and Sewer Utility (EWSU) has completed an inventory of human remains and associated funerary objects and has determined that there is a cultural affiliation between the human remains and associated funerary objects and Indian Tribes or Native Hawaiian organizations in this notice.

DATES: Repatriation of the human remains and associated funerary objects in this notice may occur on or after June 24, 2024.

ADDRESSES: Andrew V. Martin, Cultural Resource Analysts, Inc., 201 NW 4th Street, Evansville, IN 47713, telephone (812) 253-3009, email amartin@crai-ky.com.

SUPPLEMENTARY INFORMATION: This notice is published as part of the National Park Service's administrative responsibilities under NAGPRA. The determinations in this notice are the sole responsibility of the EWSU, and additional information on the determinations in this notice, including the results of consultation, can be found in the inventory or related records. The National Park Service is not responsible for the determinations in this notice.

Abstract of Information Available

Based on the information available, human remains representing, at least, eight individuals have been reasonably identified. The six associated funerary objects were found in association with two burials. Two concentrations of amorphous silver flecking that measured approximately 5 cm in diameter were found at the left shoulder area and at the mid-abdominal area of one burial. Another burial had a total of four copper buttons found in association with a likely male adult. The remaining six burials did not have any associated funerary objects.

In 2023, human remains representing 75 individuals were archaeologically excavated from a known early nineteenth-century cemetery, McGary's Burial Ground (Archaeological Site 12VG2126), in downtown Evansville, Vanderburgh County, IN. These human remains are represented by individual burials. The burials consisted of infants through old adults who, based on the recovered cultural materials, were most likely interred from 1816 through 1829. The identities of all exhumed individuals could not be determined. Due to poor preservation, physical analysis of the remains was limited, and biological affinity could not be assessed for most of the individuals. Although, morphological characteristics from dental elements examined indicate American Indian ancestry for eight individuals. Based on the information available and the results of consultation, cultural affiliation for the eight individuals of American Indian ancestry is reasonably identified by the geographical location of the cemetery described in this notice. Specifically, southern Indiana is known to have been occupied by the people of the Miami and Peoria Tribes before their removal from Indiana in the early and mid-19th century. Historical and ethnographic documents also place the Delaware and Shawnee in southern Indiana during the early historic periods (16th through 18th centuries) and they were present elsewhere in Indiana until their removal in the early 19th century.

There were no known potentially hazardous substances used to treat any of the human remains or associated funerary objects.

Cultural Affiliation

Based on the information available and the results of consultation, cultural affiliation is reasonably identified by the geographical location of the human remains and associated funerary objects described in this notice.

Determinations

The City of Evansville Water and Sewer Utility has determined that:

• The human remains described in this notice represent the physical remains of eight individuals of Native American ancestry.

• The six objects described in this notice are reasonably believed to have been placed intentionally with or near individual human remains at the time of death or later as part of the death rite or ceremony.

• There is a reasonable connection between the human remains and associated funerary objects described in this notice and the Delaware Tribe of Indians; Miami Tribe of Oklahoma; Peoria Tribe of Indians of Oklahoma; and the Shawnee Tribe.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after June 24, 2024. If competing requests for repatriation are received, the City of Evansville Water and Sewer Utility must determine the most appropriate requestor prior to repatriation. Requests for joint repatriation of the human remains and associated funerary objects are considered a single request and not competing requests. The City of Evansville Water and Sewer Utility is responsible for sending a copy of this notice to the Indian Tribes and Native Hawaiian organizations identified in this notice.

Authority: Native American Graves Protection and Repatriation Act, 25 U.S.C. 3003, and the implementing regulations, 43 CFR 10.10.

Dated: May 15, 2024.
Melanie O'Brien,
Manager, National NAGPRA Program.

[FR Doc. 2024-11451 Filed 5-23-24; 8:45 am]

BILLING CODE 4312-52-P